NATIONAL AERONAUTICS AND SPACE ADMINISTRATION

[Notice 04-151]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: December 29, 2004.

FOR FURTHER INFORMATION CONTACT: Kent N. Stone, Patent Counsel, Glenn Research Center at Lewis Field, Code 500-118, Cleveland, OH 44135; telephone (216) 433-8855; fax (216) 433-6790.

NASA Case No. LEW-17290-1: Durable Surface Cladding For Ceramic And Polymeric Matrix Composites;

NASA Case No. LEW-17299-2: Mechanically Resilient Polymeric Films Doped With A Lithium Compound;

NASA Case No. LEW-17306-1: Thin Film Heat Flux Sensor Of Improved Design;

NASA Case No. LEW-17517-1: Flow-Field Control-Rods To Stabilize Flow In A Centrifugal Compressor;

NASA Case No. LEW-17256-2: MEMS Direct Chip Attach Packaging Methodologies And Apparatus For Harsh Environments;

NASA Case No. LEW-17458-1: Compact Solid-state Entangled Photon Source;

NASA Case No. LEW-17520-1: Hybrid Power Management (HPM) Upgrade;

NASA Case No. LEW-17551-1: Unitized Regenerative Fuel Cell System;

NASA Case No. LEW-17561-1: Large Area Permanent Magnet ECR Plasma Source;

NASA Case No. LEW-17589-1: Slotted Antenna Waveguide Plasma Source;

NASA Case No. LEW-17592-1: New Ion Conduction Organic/Inorganic Hybrid Polymers;

NASA Case No. LEW-17618-1: High Tg Polyimides For Resin Transfer Molding (RTM);

NASA Case No. LEW-17642-1: Energetic Atomic And Ionic Oxygen Textured Optical Surfaces For Blood Glucose Monitoring;

NASA Case No. LEW-17672-1: Low Density High Creep Resistant Single Crystal Superalloy For turbine Airfoils.

Dated: December 10, 2004.
Keith T. Sefton,
Deputy General Counsel, Administration and Management.

[FR Doc. 04-28511 Filed 12-28-04; 8:45 am]

BILLING CODE 7510-13-P